DEPARTMENT OF AGRICULTURE

Forest Service

Upper Lake Ranger District; California; Pine Mountain Late-Successional Reserve Habitat Protection and Enhancement Project; Withdrawal of Draft Environmental Impact Statement

AGENCY: Forest Service, Agriculture (USDA).

ACTION: Notice; withdrawal.

SUMMARY: The Mendocino National Forest is withdrawing its draft environmental impact statement (DEIS) for the Pine Mountain Late-Successional Reserve Habitat Protection and Enhancement Project on the Upper Lake Ranger District. The Mendocino National Forest's decision to withdraw the DEIS is due to major changes to the landscape after the 2018 Ranch Fire. Multiple challenges delayed the publication of this notification including the government furlough in 2019, Covid pandemic starting in 2020, the 2020 1-million-acre August Complex wildfire and a shift in forest priorities to recover the acres burned in the August Complex.

FOR FURTHER INFORMATION CONTACT: Questions concerning this notice should be directed to Upper Lake District Ranger Frank Aebly at frank.aebly@usda.gov or 707-275-1401. Individuals who use telecommunication devices for the deaf or hard-of-hearing (TDD) may call the Federal Relay Service at 800-877-8339, 24 hours a day, every day of the year, including holidays.

SUPPLEMENTARY INFORMATION: The Mendocino National Forest is withdrawing its DEIS for the Pine Mountain Late-Successional Reserve Habitat Protection and Enhancement Project. The original Notice of Intent was published in the Federal Register on May 20, 2014 (79 FR 28883), and the Notice of Availability was published in the Federal Register on May 5, 2017 (82 FR 21228).

Dated: September 15, 2023.
Troy Heithecker,
Associate Deputy Chief, National Forest System.

[FR Doc. 2023-20593 Filed 9-21-23; 8:45 am]

BILLING CODE 3411-15-P